DEPARTMENT OF TRANSPORTATION

Federal Aviation Administration

14 CFR Part 97

[Docket No. 30357; Amdt. No. 3047]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective March 7, 2003. The compliance date for each SIAP is specified in the amendatory provisions.

The incorporation by reference of certain publications listed in the regulations is approved by the Director of the Federal Register as of March 7, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), (1) CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on February 28, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective March 20, 2003

Harrison, AR, Boone County, VOR-A, Amdt 13

Harrison, AR, Boone County, NDB Rwy 18, Amdt 6

Harrison, AR, Boone County, NDB-B, Amdt 3

Harrison, AR, Boone County, ILS Rwy 36, Orig

Harrison, AR, Boone County, ILS/DME Rwy 36, Orig-A, Cancelled

Harrison, AR, Boone County, RNAV (GPS) Rwy 18, Orig

Harrison, AR, Boone County, GPS Rwy 18, Orig-A, Cancelled

Harrison, AR, Boone County, RNAV (GPS) Rwy 36, Orig

Wichita, KS, Wichita Mid-Continent, VOR Rwy 14, Amdt 1B

Wichita, KS, Wichita Mid-Continent, NDB Rwy 1R, Amdt 15B

Wichita, KS, Wichita Mid-Continent, VOR/DME RNAV Rwy 1L, Amdt 1C

Wichita, KS, Wichita Mid-Continent, RNAV (GPS) Z Rwy 1L, Orig

Wichita, KS, Wichita Mid-Continent, RNAV (GPS) Y Rwy 1L, Orig

Wichita, KS, Wichita Mid-Continent, RNAV (GPS) Rwy 1R, Orig

Wichita, KS, Wichita Mid-Continent, RNAV (GPS) Rwy 14, Orig

Wichita, KS, Wichita Mid-Continent, RNAV (GPS) Z Rwy 19L, Orig

Wichita, KS, Wichita Mid-Continent, RNAV (GPS) Y Rwy 19L, Orig

Wichita, KS, Wichita Mid-Continent, GPS Rwy 19L, Orig-A, Cancelled

Wichita, KS, Wichita Mid-Continent, VOR/DME RNAV Rwy 19R, Amdt 1B

Wichita, KS, Wichita Mid-Continent, RNAV (GPS) Rwy 19R, Orig

Wichita, KS, Wichita Mid-Continent, RNAV (GPS) Rwy 32, Orig

Wichita, KS, Wichita Mid-Continent, GPS Rwy 32, Orig-A, Cancelled

Boston, MA, General Edward Lawrence Logan Intl, ILS Rwy 22L, Amdt 7

Minneapolis, MN, Flying Cloud, RNAV (GPS) Rwy 28L, Orig

Minneapolis, MN, Flying Cloud, RNAV (GPS) Rwy 28R, Orig

Hammonton, NJ, Hammonton Muni, RNAV (GPS) Rwy 3, Orig

Hammonton, NJ, Hammonton Muni, GPS Rwy 3, Orig, Cancelled

Buffalo, NY, Buffalo Niagara Intl, VOR or GPS-A, Amdt 17A, Cancelled

Buffalo, NY, Buffalo Niagara Intl, VOR/DME RNAV or GPS Rwy 23, Orig-A, Cancelled

Buffalo, NY, Buffalo Niagara Intl, VOR/DME RNAV or GPS Rwy 32, Amdt 5A, Cancelled

Buffalo, NY, Buffalo Niagara Intl, NDB Rwy 5, Amdt 10C

Buffalo, NY, Buffalo Niagara Intl, RNAV (GPS) Rwy 5, Orig

Buffalo, NY, Buffalo Niagara Intl, RNAV (GPS) Rwy 23, Orig

Buffalo, NY, Buffalo Niagara Intl, RNAV (GPS) Rwy 32, Orig

Minot, ND, Minot Intl, RNAV (GPS) Rwy 31, Orig

Bellefontaine, OH, Bellefontaine Regional, VOR/DME Rwy 7, Orig

Bellefontaine, OH, Bellefontaine Regional, VOR/DME Rwy 25, Orig

Bellefontaine, OH, Bellefontaine Regional, RNAV (GPS) Rwy 7, Orig

Bellefontaine, OH, Bellefontaine Regional, RNAV (GPS) Rwy 25, Orig

Cleveland, OH, Cleveland-Hopkins Intl, ILS Rwy 24L, Amdt 18

Medford, OK, Medford Muni, RNAV (GPS) Rwy 17, Orig

Medford, OK, Medford Muni, RNAV (GPS) Rwy 35, Orig

Johnstown, PA, John Murtha Johnstown-Cambria County, VOR Rwy 15, Amdt 9

Johnstown, PA, John Murtha Johnstown-Cambria County, VOR Rwy 23, Amdt 7

Johnstown, PA, John Murtha Johnstown-Cambria County, VOR/DME Rwy 15, Amdt 5

Johnstown, PA, John Murtha Johnstown-Cambria County, VOR/DME Rwy 23, Amdt 1

Johnstown, PA, John Murtha Johnstown-Cambria County, ILS Rwy 33, Amdt 5

Johnstown, PA, John Murtha Johnstown-Cambria County, RNAV (GPS) Rwy 5, Orig

Johnstown, PA, John Murtha Johnstown-Cambria County, RNAV (GPS) Rwy 15, Orig

Johnstown, PA, John Murtha Johnstown-Cambria County, RNAV (GPS) Rwy 23, Orig

Johnstown, PA, John Murtha Johnstown-Cambria County, RNAV (GPS) Rwy 33, Orig

West Chester, PA, Brandywine, VOR-A, Amdt 3

West Chester, PA, Brandywine, RNAV (GPS) Rwy 9, Orig

West Chester, PA, Brandywine, RNAV (GPS) Rwy 27, Orig

West Chester, PA, Brandywine, VOR/DME RNAV or GPS Rwy 27, Amdt 2, Cancelled

West Chester, PA, Brandywine, GPS Rwy 9, Orig, Cancelled

Burlington, VT, Burlington Intl, VOR Rwy 1, Amdt 11D

Burlington, VT, Burlington Intl, NDB Rwy 15, Amdt 19E

Burlington, VT, Burlington Intl, ILS Rwy 15, Amdt 22

Burlington, VT, Burlington Intl, RNAV (GPS) Rwy 1, Orig

Burlington, VT, Burlington Intl, RNAV (GPS) Y Rwy 15, Orig

Burlington, VT, Burlington Intl, RNAV (GPS) Z Rwy 15, Orig

Burlington, VT, Burlington Intl, RNAV (GPS) Rwy 33, Orig

Burlington, VT, Burlington Intl, GPS Rwy 33, Orig-A, Cancelled

* * * Effective April 17, 2003

Crisfield, MD, Crisfield Muni, VOR/DME-A, Orig

* * * Effective May 15, 2003

Monroe, GA, Monroe-Walton County, NDB-A, Orig

Monroe, GA, Monroe-Walton County, NDB or GPS Rwy 3, Amdt 3, Cancelled

Monroe, GA, Monroe-Walton County, RNAV (GPS) Rwy 3, Orig

Somerville, NJ, Somerset, RNAV (GPS) Rwy 12, Orig

Somerville, NJ, Somerset, RNAV (GPS) Rwy 30, Orig

Somerville, NJ, Somerset, GPS Rwy 12, Amdt 2, Cancelled

The FAA published the following procedures in Docket No. 30350; Amdt No. 3041 to Part 97 of the Federal Aviation Regulations (Vol. 68, FR No. 17, Page 3811; dated Monday, January 27, 2003) under section 97.33 effective March 20, 2003 which are hereby rescinded:

Glens Falls, NY, Floyd Bennett Memorial, VOR/DME or GPS Rwy 19, Amdt 6B (Cancelled)

Glens Falls, NY, Floyd Bennett Memorial, RNAV (GPS) Rwy 1, Orig

Glens Falls, NY, Floyd Bennett Memorial, RNAV (GPS) Rwy 12, Orig

Glens Falls, NY, Floyd Bennett Memorial, RNAV (GPS) Rwy 19, Orig

Glens Falls, NY, Floyd Bennett Memorial, RNAV (GPS) Rwy 30, Orig

[FR Doc. 03-5289 Filed 3-6-03; 8:45 am]

BILLING CODE 4910-13-M